DEPARTMENT OF TRANSPORTATION

Federal Aviation Administration

14 CFR Part 39

[Docket No. FAA-2004-19451; Directorate Identifier 2002-NM-138-AD]

RIN 2120-AA64

Airworthiness Directives; Airbus Model A300 B2 and B4; A300 B4-600, B4-600R, and F4-600R (Collectively Called A300-600); and A310 Series Airplanes

AGENCY: Federal Aviation Administration (FAA), DOT.

ACTION: Notice of proposed rulemaking (NPRM).

SUMMARY: The FAA proposes to supersede an existing airworthiness directive (AD) that applies to all Airbus Model A300 B2 and B4; A300 B4-600, B4-600R, and F4-600R (collectively called A300-600); and A310 series airplanes. The existing AD currently requires identification of the part number and serial number of the parking brake operated valve (PBOV); and, if necessary, inspections of the PBOV, including a functional check of the PBOV, and follow-on and corrective actions. The existing AD also provides for optional terminating action for the requirements of that AD. This proposed AD would require modification of all affected PBOVs, or replacement with new, nonaffected PBOVs, which would terminate the requirements of the existing AD. This proposed AD is prompted by a decision by the FAA and a civil airworthiness authority to require modification or replacement of all affected PBOVs. We are proposing this AD to prevent loss of the yellow hydraulic system, which provides all the hydraulics for certain spoilers; elements of the hydraulics for flaps, stabilizer, pitch and yaw feel systems, pitch and yaw autopilot, and yaw damper; and elevator, rudder, and aileron.

DATES: We must receive comments on this proposed AD by November 26, 2004.

ADDRESSES: Use one of the following addresses to submit comments on this proposed AD.

• DOT Docket Web site: Go to http://dms.dot.gov and follow the instructions for sending your comments electronically.

• Government-wide rulemaking Web site: Go to http://www.regulations.gov and follow the instructions for sending your comments electronically.

• Mail: Docket Management Facility; U.S. Department of Transportation, 400 Seventh Street SW., Nassif Building, room PL-401, Washington, DC 20590.

• Fax: (202) 493-2251.

• Hand Delivery: Room PL-401 on the plaza level of the Nassif Building, 400 Seventh Street SW., Washington, DC, between 9 a.m. and 5 p.m., Monday through Friday, except Federal holidays.

For service information identified in this proposed AD, contact Airbus, 1 Rond Point Maurice Bellonte, 31707 Blagnac Cedex, France.

You can examine the contents of this AD docket on the Internet at http://dms.dot.gov, or in person at the Docket Management Facility, U.S. Department of Transportation, 400 Seventh Street SW., room PL-401, on the plaza level of the Nassif Building, Washington, DC.

FOR FURTHER INFORMATION CONTACT: Technical information: Dan Rodina, Aerospace Engineer, International Branch, ANM-116, FAA, Transport Airplane Directorate, 1601 Lind Avenue, SW., Renton, Washington 98055-4056; telephone (425) 227-2125; fax (425) 227-1149.

Plain language information: Marcia Walters, marcia.walters@faa.gov.

SUPPLEMENTARY INFORMATION:

Docket Management System (DMS)

The FAA has implemented new procedures for maintaining AD dockets electronically. As of May 17, 2004, new AD actions are posted on DMS and assigned a docket number. We track each action and assign a corresponding directorate identifier. The DMS AD docket number is in the form “Docket No. FAA-2004-99999.” The Transport Airplane Directorate identifier is in the form “Directorate Identifier 2004-NM-999-AD.” Each DMS AD docket also lists the directorate identifier (“Old Docket Number”) as a cross-reference for searching purposes.

Comments Invited

We invite you to submit any relevant written data, views, or arguments regarding this proposed AD. Send your comments to an address listed under ADDRESSES. Include “Docket No. FAA-2004-19451; Directorate Identifier 2002-NM-138-AD” at the beginning of your comments. We specifically invite comments on the overall regulatory, economic, environmental, and energy aspects of the proposed AD. We will consider all comments received by the closing date and may amend the proposed AD in light of those comments.

We will post all comments we receive, without change, to http://dms.dot.gov, including any personal information you provide. We will also post a report summarizing each substantive verbal contact with FAA personnel concerning this proposed AD. Using the search function of our docket Web site, anyone can find and read the comments in any of our dockets, including the name of the individual who sent the comment (or signed the comment on behalf of an association, business, labor union, etc.). You can review the DOT's complete Privacy Act Statement in the Federal Register published on April 11, 2000 (65 FR 19477-78), or you can visit http://dms.dot.gov.

We are reviewing the writing style we currently use in regulatory documents. We are interested in your comments on whether the style of this document is clear, and your suggestions to improve the clarity of our communications that affect you. You can get more information about plain language at http://www.faa.gov/language and http://www.plainlanguage.gov.

Examining the Docket

You can examine the AD docket on the Internet at http://dms.dot.gov, or in person at the Docket Management Facility office between 9 a.m. and 5 p.m., Monday through Friday, except Federal holidays. The Docket Management Facility office (telephone (800) 647-5227) is located on the plaza level of the Nassif Building at the DOT street address stated in the ADDRESSES section. Comments will be available in the AD docket shortly after the DMS receives them.

Discussion

On April 12, 2002, we issued AD 2002-08-14, amendment 39-12722 (67 FR 19655, April 23, 2002), for all Airbus Model A300 B2 and B4; A300 B4-600, B4-600R, and F4-600R (collectively called A300-600); and A310 series airplanes. That AD requires identification of the part number and serial number of the parking brake operated valve (PBOV); and, if necessary, inspections of the PBOV, including a functional check of the PBOV, and follow-on and corrective actions. That AD also provides for optional terminating action for the requirements of that AD. That AD was prompted by issuance of mandatory continuing airworthiness information by the Direction Generale de l'Aviation Civile (DGAC), which is the airworthiness authority for France. We issued that AD to prevent loss of the yellow hydraulic system, which provides all the hydraulics for certain spoilers; elements of the hydraulics for flaps, stabilizer, pitch and yaw feel systems, pitch and yaw autopilot, and yaw damper; and elevator, rudder, and aileron.

Actions Since Existing AD Was Issued

The preamble to AD 2002-08-14 indicated that the FAA and the DGAC were considering a requirement to replace all affected PBOVs. We and the DGAC have determined that modification or replacement of all affected PBOVs should be required, and this proposed AD follows from that determination. The parallel French airworthiness directive is 2001-510(B) R1, dated May 15, 2002.

FAA's Determination and Requirements of the Proposed AD

These airplane models are manufactured in France and are type certificated for operation in the United States under the provisions of section 21.29 of the Federal Aviation Regulations (14 CFR 21.29) and the applicable bilateral airworthiness agreement. According to this bilateral airworthiness agreement, the DGAC has kept us informed of the situation described above. We have examined the DGAC's findings, evaluated all pertinent information, and determined that AD action is necessary for airplanes of this type design that are certificated for operation in the United States.

This proposed AD would supersede AD 2002-08-14. This proposed AD would retain certain requirements of the existing AD. This proposed AD would also require modification of all affected PBOVs, or replacement with new, nonaffected PBOVs, which would terminate the requirements of the existing AD. Accomplishment of the modification or replacement would be required in accordance with the service bulletins referenced in AD 2002-08-14 (Airbus Service Bulletins A300-32A0441, A300-32A6087, or A310-32A2124; all dated September 10, 2001; as applicable).

Change to Existing AD

This proposed AD would retain certain requirements of AD 2002-08-14. Since AD 2002-08-14 was issued, the AD format has been revised, and certain paragraphs have been rearranged. As a result, the corresponding paragraph identifiers have changed in this proposed AD, as listed in the following table:

Revised Paragraph Identifiers
Requirement in AD 2002-08-14 | Corresponding requirement in this proposed AD
paragraph (a) | paragraph (f).
paragraph (b) | paragraph (g).
paragraph (d) | paragraph (h).

Costs of Compliance

The following table provides the estimated costs for U.S. operators to comply with this proposed AD. This proposed AD would affect about 168 airplanes of U.S. registry.

Estimated Costs
Action | Work hours | Average labor rate per hour | Parts | Cost per airplane
Inspection of PBOV part number/serial number (required by AD 2002-08-14) | 2 | 65 | None | $130
Modification/replacement (new proposed action) | 4 | 65 | No Charge | 260

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD. See the ADDRESSES section for a location to examine the regulatory evaluation.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing amendment 39-12722 (67 FR 19655, April 23, 2002) and adding the following new airworthiness directive (AD):

Airbus: Docket No. FAA-2004-19451; Directorate Identifier 2002-NM-138-AD.

Comments Due Date

(a) The Federal Aviation Administration must receive comments on this AD action by November 26, 2004.

Affected ADs

(b) This AD supersedes AD 2002-08-14, amendment 39-12722 (67 FR 19655, April 23, 2002).

Applicability: (c) This AD applies to all Airbus Model A300 B2 and B4; A300 B4-600, B4-600R, and F4-600R (collectively called A300-600); and A310 series airplanes; certificated in any category.

Unsafe Condition

(d) This AD was prompted by a decision by the FAA and a civil airworthiness authority to require modification or replacement of all affected parking brake operated valves (PBOV). We are issuing this AD to prevent loss of the yellow hydraulic system, which provides all the hydraulics for certain spoilers; elements of the hydraulics for flaps, stabilizer, pitch and yaw feel systems, pitch and yaw autopilot, and yaw damper; and elevator, rudder, and aileron.

Compliance: (e) You are responsible for having the actions required by this AD performed within the compliance times specified, unless the actions have already been done.

Restatement of Certain Requirements of AD 2002-08-14

Inspection and Functional Check

(f) Within 7 days after May 8, 2002 (the effective date of AD 2002-08-14, amendment 39-12722), identify the part and serial number of the PBOV to determine whether the PBOV is an affected part, as identified by Airbus Service Bulletin A300-32A0441 (for Model A300 B2 and B4 series airplanes), A300-32A6087 (for Model A300-600 series airplanes), or A310-32A2124 (for Model A310 series airplanes), all dated September 10, 2001; as applicable.

(1) If the PBOV is NOT an affected part, no further action is required by this AD.

(2) If the PBOV is an affected part: Except as required by paragraph (g) of this AD, prior to further flight, test the PBOV in accordance with the applicable service bulletin; and thereafter perform follow-on and corrective actions (including repetitive tests and repair of the PBOV or replacement with a serviceable PBOV) at the time specified by and in accordance with the service bulletin, as applicable.

(g) If the applicable service bulletin identified in paragraph (f) of this AD specifies to contact “SEE32” for corrective action: Prior to further flight, perform the corrective action in accordance with a method approved by either the Manager, International Branch, ANM-116, FAA, Transport Airplane Directorate, or the Direction Generale de l'Aviation Civile (DGAC) (or its delegated agent).

Parts Installation

(h) As of May 8, 2002 (the effective date of AD 2002-08-14) no person may install an affected PBOV on any airplane, unless that PBOV is in compliance with all applicable requirements of this AD. Affected PBOVs are identified by Airbus Service Bulletin A300-32A0441 (for Model A300 B2 and B4 series airplanes), A300-32A6087 (for Model A300-600 series airplanes), or A310-32A2124 (for Model A310 series airplanes), all dated September 10, 2001; as applicable.

New Requirements of This AD

PBOV Modification/Replacement

(i) Within 7 months after the effective date of this AD: Modify all affected PBOVs, or replace them with new PBOVs, in accordance with Airbus Service Bulletin A300-32A0441 (for Model A300 B2 and B4 series airplanes), A300-32A6087 (for Model A300-600 series airplanes), or A310-32A2124 (for Model A310 series airplanes), all dated September 10, 2001; as applicable. The modification or replacement of all affected PBOVs terminates the requirements of this AD.

Alternative Methods of Compliance (AMOCs)

(j) The Manager, International Branch, ANM-116, Transport Airplane Directorate, FAA, has the authority to approve AMOCs for this AD, if requested in accordance with the procedures found in 14 CFR 39.19.

Related Information

(k) French airworthiness directive 2001-510(B) R1, dated May 15, 2002, also addresses the subject of this AD.

Issued in Renton, Washington, on October 18, 2004.
Kalene C. Yanamura,
Acting Manager, Transport Airplane Directorate, Aircraft Certification Service.

[FR Doc. 04-24033 Filed 10-26-04; 8:45 am]

BILLING CODE 4910-13-P